FEDERAL RESERVE SYSTEM

Notice of Proposals To Engage in or To Acquire Companies Engaged in Permissible Nonbanking Activities

The companies listed in this notice have given notice under section 10 of the Home Owners' Loan Act (12 U.S.C. 1467a) (HOLA) and Regulation LL, (12 CFR part 238) to engage de novo, or to acquire or control voting securities or assets of a company, including the companies listed below, that engages either directly or through a subsidiary or other company, in a nonbanking activity that is listed in § 238.53 or § 238.54 of Regulation LL (12 CFR 225.53 or 238.54). Unless otherwise noted, these activities will be conducted throughout the United States.

Each notice is available for inspection at the Federal Reserve Bank indicated. The notice also will be available for inspection at the offices of the Board of Governors. Interested persons may express their views in writing on the question whether the proposal complies with the standards of section 10(c)(4)(B) of the HOLA 12 U.S.C. 1467a(c)(4)(B).

Unless otherwise noted, comments regarding the notices must be received at the Reserve Bank indicated or the offices of the Board of Governors not later than September 14, 2018.

A. Federal Reserve Bank of Minneapolis (Mark A. Rauzi, Vice President), 90 Hennepin Avenue, Minneapolis, Minnesota 55480-0291:

1. Farrar Beresford Bancorporation Inc. Irrevocable Trust and Beresford Bancorporation, Inc., both of Britton, South Dakota; to acquire voting shares of Lloyd's Plan SD, Inc., Britton, South Dakota, and thereby act as a broker or agent for the sale of credit-related insurance and engage in consumer lending activities pursuant to section 238.53(b)(5) and 238.54(a) of Regulation LL.

Additionally, Farrar Beresford Bancorporation, Inc. Irrevocable Trust and Beresford Bancorporation, Inc. have applied for retroactive approval to engage in general lending activities, including small business and agricultural loans, pursuant to section 238.54(a) of Regulation LL.

Board of Governors of the Federal Reserve System, August 23, 2018.
Ann E. Misback,
Secretary of the Board.

[FR Doc. 2018-18630 Filed 8-28-18; 8:45 am]

BILLING CODE P